FEDERAL COMMUNICATIONS COMMISSION

Notice of Public Information Collection(s) Being Reviewed by the Federal Communications Commission for Extension Under Delegated Authority, Comments Requested

February 3, 2009.

SUMMARY: The Federal Communications Commission, as part of its continuing effort to reduce paperwork burdens, invites the general public and other Federal agencies to take this opportunity to comment on the following information collection, as required by the Paperwork Reduction Act of 1995 (PRA), Public Law No. 104-13. An agency may not conduct or sponsor a collection of information unless it displays a currently valid control number. No person shall be subject to any penalty for failing to comply with a collection of information that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before April 10, 2009. If you anticipate that you will be submitting comments, but find it difficult to do so within the period of time allowed by this notice, you should advise the contact listed below as soon as possible.

ADDRESSES: Interested parties may submit all PRA comments by e-mail or U.S. post mail. To submit your comments by e-mail, send them to PRA@fcc.gov and/or Cathy.Williams@fcc.gov. To submit your comments by U.S. mail, mark them to the attention of Cathy Williams, Federal Communications Commission, Room 1-C823, 445 12th Street, SW., Washington, DC 20554.

FOR FURTHER INFORMATION CONTACT: For additional information about the information collection(s), contact Cathy Williams at (202) 418-2918 or send an e-mail to PRA@fcc.gov and/or Cathy.Williams@fcc.gov.

SUPPLEMENTARY INFORMATION: OMB Control Number: 3060-0310.

Title: Section 76.1801, Registration Statement; FCC Form 322, Community Cable Registration.

Form Number: FCC Form 322.

Type of Review: Extension of a currently approved collection.

Respondents: Business and other for-profit entities; Not-for-profit institutions.

Number of Respondents/Responses: 755 respondents; 755 responses.

Estimated Time per Response: 30 minutes.

Frequency of Response: One time reporting requirement; On occasion reporting requirement.

Total Annual Burden: 378 hours.

Total Annual Costs: $37,750.

Nature and Extend of Confidentiality: There is no need for confidentiality with this collection of information.

Obligation to Respond: Required to obtain or retain benefits. The statutory authority for this information collection is contained in Sections 154(i), 303, 308, 309 and 621 of the Communications Act of 1934, as amended.

Privacy Impact Assessment(s): No impact(s).

Needs and Uses: On March 13, 2003, the Commission adopted a Report and Order (R&O), Amendment of the Commission's Rules for Implementation of its Cable Operations and Licensing System (COALS) to Allow for Electronic Filing of Licensing Applications, Forms, Registrations and Notifications in the Multichannel Video and Cable Television Service and the Cable Television Relay Service, FCC 03-55. This R&O provided for electronic filing and standardized information collections. Under 47 CFR Section 76.1801, cable operators are required to file FCC Form 322 with the Commission prior to commencing operation of a community unit. FCC Form 322 identifies biographical information about the operator and system as well as a list of broadcast channels carried on the system. This form replaces the requirement that cable operators send a letter containing the same information.

OMB Control Number: 3060-0341.

Title: Section 73.1680, Emergency Antennas.

Form Number: Not applicable.

Type of Review: Extension of a currently approved collection.

Respondents: Business or other for-profit entities; Not-for-profit institutions.

Number of Respondents/Responses: 142 respondents/142 responses.

Estimated time per response: 1 hour.

Frequency of response: On occasion reporting requirement.

Total annual burden: 142 hours.

Total annual costs: $28,400.

Nature and Extend of Confidentiality: There is no need for confidentiality with this collection of information.

Obligation to Respond: Required to obtain or retain benefits. The statutory authority for this information collection is contained in Section 154(i) of the Communications Act of 1934, as amended.

Privacy Impact Assessment(s): No impact(s).

Needs and Uses: 47 CFR 73.1680 requires that licensees of AM, FM or TV stations submit an informal request to the FCC (within 24 hours of commencement of use) to continue operation with an emergency antenna. An emergency antenna is one that is erected for temporary use after the authorized main and auxiliary antennas are damaged and cannot be used. FCC staff uses the data to ensure that interference is not caused to other existing stations.

OMB Control Number: 3060-0331.

Title: Aeronautical Frequency Notification.

From Number: FCC Form 321.

Type of Review: Extension of a currently approved collection.

Respondents: Business or other for-profit entities; Not-for-profit institutions.

Number of Respondents/Responses: 3,240 respondents/3,240 responses.

Estimated Time per Response: 40 minutes.

Frequency of Response: One-time reporting requirement; On occasion reporting requirement.

Total Annual Burden: 2,291 hours.

Total Annual Costs: $205,200.

Nature and Extend of Confidentiality: There is no need for confidentiality with this collection of information.

Obligation to Respond: Required to obtain or retain benefits. The statutory authority for this information collection is contained in Sections 154(i), 301, 303, 308, 309 and 621 of the Communications Act of 1934, as amended.

Privacy Impact Assessment(s): No impact(s).

Needs and Uses: The FCC Form 321 is the means by which multichannel video programming distributors obtain authority to commence operation of a system on frequencies used by aeronautical services. The information is used to protect aeronautical radio communications from interference.

OMB Control Number: 3060-0569.

Title: Section 76.975, Commercial leased access dispute resolution.

Form Number: Not applicable.

Type of Review: Extension of a currently approved collection.

Respondents: Business or other for-profit entities; State, Local or Tribal Government.

Number of Respondents/Responses: 60 respondents; 60 responses.

Estimated Time per Response: 4 to 40 hours.

Frequency of Response: Third party disclosure requirement; On occasion reporting requirement.

Nature and Extend of Confidentiality: There is no need for confidentiality with this collection of information.

Obligation to Respond: Required to obtain or retain benefits. The statutory authority for this information collection is contained in Sections 154(i) and 612 of the Communications Act of 1934, as amended.

Total Annual Burden: 1,320 hours.

Total Annual Cost: $24,000.

Privacy Act Impact Assessment: No impact(s).

Needs and Uses: 47 CFR 76.975 permits any person aggrieved by the failure or refusal of a cable operator to make commercial channel capacity available or to charge rates for such capacity in accordance with the provisions of Title VI of the Communications Act of 1934 may file a petition for relief with the Commission.

OMB Control Number: 3060-0607.

Title: Section 76.922, Rates for Basic Service Tiers and Cable Programming Services Tiers.

Form Number: Not applicable.

Type of Review: Extension of a currently approved collection.

Respondents: Business or other for-profit entities; State, local or Tribal Government.

Number of Respondents/Responses: 25 respondents/25 responses.

Estimated Time per Response: 12 hours.

Frequency of Response: On occasion reporting requirement.

Total Annual Burden: 300 hours.

Total Annual Costs: None.

Nature and Extend of Confidentiality: There is no need for confidentiality with this collection of information.

Obligation to Respond: Required to obtain or retain benefits. The statutory authority for this information collection is contained in Sections 4(i) and 623 of the Communications Act of 1934, as amended.

Privacy Impact Assessment(s): No impact(s).

Needs and Uses: 47 CFR 76.922(b)(5)(c) provides that an eligible small system that elects to use the streamlined rate reduction process must implement the required rate reductions and provide written notice of such reductions to local subscribers, the local franchising authority (“LFA”), and the Commission. The information is used by Commission staff to ensure that qualified small systems have additional incentives to add channels and to insure that small systems are able to recover costs for headend upgrades when doing so.

OMB Control Number: 3060-0938.

Title: Application for a Low Power FM Broadcast Station License.

Form Number: FCC Form 319.

Type of Review: Extension of a currently approved collection.

Respondents: Not-for-profit institutions; State, local or Tribal Government.

Number of Respondents/Responses: 200 respondents/200 responses.

Estimated Time per Response: 1 hour.

Frequency of Response: On occasion reporting requirement.

Total Annual Burden: 200 hours.

Total Annual Costs: $17,500.

Nature and Extend of Confidentiality: There is no need for confidentiality with this collection of information.

Obligation to Respond: Required to obtain or retain benefits. The statutory authority for this information collection is contained in Sections 154(i), 303 and 308 of the Communications Act of 1934, as amended.

Privacy Impact Assessment(s): No impact(s).

Needs and Uses: On January 20, 2000, the Commission adopted a Report and Order (R&O) in MM Docket No. 99-25, In the Matter of Creation of Low Power Radio Service. With the adoption of this R&O, the Commission authorized the licensing of two new classes of FM radio stations, generally referred to as low power FM stations (LPFM): A LP100 class for stations operating at 50-100 watts effective radiated power (ERP) at an antenna height above average terrain (HAAT) of 30 meters; and a LP10 class for stations operating at 1-10 watts ERP and an antenna height of 30 meters HAAT. These stations will be operated on a noncommercial educational basis by entities that do not hold attributable interests in any other broadcast station or other media subject to the Commission's ownership rules. The LPFM service authorized in this Report and Order provides significant opportunities for new radio services. The LPFM service creates a class of radio stations designed to serve very localized communities or underrepresented groups within communities.

In connection with this new service, the Commission developed a new FCC Form 319, Application for a Low Power FM Broadcast Station License. FCC Form 319 is required to apply for a license for a new or modified Low Power FM (LPFM) station.

OMB Control Number: 3060-1045.

Title: Section 76.1610, Change of Operational Information; FCC Form 324, Operator, Mail Address and Operational Information Changes.

Form Number: FCC Form 324.

Type of Review: Extension of a currently approved collection.

Respondents: Business and other for-profit entities; Not-for-profit institutions.

Number of Respondents/Responses: 5,000 respondents/5,000 responses.

Estimated Time per Response: 30 minutes.

Frequency of Response: On occasion reporting requirement.

Total Annual Burden: 2,500 hours.

Total Annual Costs: None.

Nature and Extend of Confidentiality: There is no need for confidentiality with this collection of information.

Obligation to Respond: Required to obtain or retain benefits. The statutory authority for this information collection is contained in Sections 154(i), 303, 308, 309 and 621 of the Communications Act of 1934, as amended.

Privacy Impact Assessment(s): No impact(s)

Needs and Uses: Under 47 CFR 76.1610, cable operators must notify the Commission of changes in ownership information or operating status within 30 days of such change. FCC Form 324 is used to update information filed with the Commission concerning the Cable Community Registration. The information is the basic operational information on operator name, mailing address, community served, and system identification. FCC Form 324 will cover a variety of changes related to cable operators, replacing the requirement of a letter containing approximately the same information. Every Form 324 filing will require information about the system—the additional information required depending largely upon the nature of the change.

Federal Communications Commission.
Marlene H. Dortch,
Secretary.

[FR Doc. E9-2577 Filed 2-6-09; 8:45 am]

BILLING CODE 6712-01-P